DEPARTMENT OF STATE

[Public Notice: 12433]

Notice of Public Meeting

The Department of State will conduct a public meeting at 11:00 a.m. on Thursday, July 18, 2024, by way of teleconference. The primary purpose of the meeting is to prepare for the tenth session of the International Maritime Organization's (IMO) Sub-Committee on Implementation of IMO Instruments (III 10) to be held at the IMO headquarters, London, United Kingdom, from Monday, July 22, 2024, to Friday, July 26, 2023.

Members of the public may participate up to the capacity of the teleconference phone line, which can handle 500 participants. The meeting will be held virtually, and the teleconference line will be provided to those who RSVP. To RSVP, participants should contact the meeting coordinator, Mr. Chris Gagnon, by email at christopher.j.gagnon@uscg.mil, and Mr. Gagnon will provide access information for virtual attendance.

The agenda items to be considered at the advisory committee mirror those to be considered at III 10, and include:

—Decisions of other IMO bodies;

—Consideration and analysis of reports on alleged inadequacy of port reception facilities;

—Lessons learned and safety issues identified from the analysis of marine safety investigation reports;

—Measures to harmonize port state control (PSC) activities and procedures worldwide;

—Validate model training courses;

—Identified issues related to the implementation of IMO instruments from the analysis of data;

—Analysis of consolidated audit summary reports;

—Updated survey guidelines under the Harmonized System of Survey and Certification (HSSC);

—Non-exhaustive list of obligations under the instruments relevant to the IMO Instruments Implementation Code (III Code);

—Development of guidance on assessments and applications of remote surveys, ISM Code audits and ISPS Code verifications;

—Unified interpretation of provisions of IMO safety, security, and environment related conventions;

—Follow-up work emanating from the Action Plan to address plastic litter from ships; and

—Development of guidance to assist competent authorities in the implementation of the Cape Town Agreement of 2012.

Please note: the IMO may, on short notice, adjust the III 10 agenda to accommodate the constraints associated with the hybrid meeting format. Any changes to the agenda will be reported to those who RSVP and those in attendance at the meeting.

Those who plan to participate may contact the meeting coordinator, Mr. Christopher Gagnon, by email at christopher.j.gagnon@uscg.mil, by phone at (202) 372-1231, or in writing at 2703 Martin Luther King Jr. Ave. SE, Stop 7501, Washington, DC 20593-7509. Members of the public needing reasonable accommodation should advise Mr. Gagnon not later than July 11, 2024. Requests made after that date will be considered but might not be possible to fulfill.

Additional information regarding this and other IMO public meetings may be found at: https://www.dco.uscg.mil/IMO.

(Authority: 22 U.S.C. 2656 and 5 U.S.C. 522)

Leslie W. Hunt,
Coast Guard Liaison Officer, Office of Ocean and Polar Affairs, Department of State.

[FR Doc. 2024-13955 Filed 6-25-24; 8:45 am]

BILLING CODE 4710-09-P